DEPARTMENT OF VETERANS AFFAIRS

[OMB Control No. 2900-0919]

Agency Information Collection Activity: Servicemembers' Group Life Insurance—Traumatic Injury Protection Program (TSGLI) Application for TSGLI and Traumatic Injury Protection Program (TSGLI) Appeal Request Form; Withdrawn

AGENCY: Veterans Benefits Administration, Department of Veterans Affairs.

ACTION: Notice; withdrawal.

SUMMARY: On Thursday, March 16, 2023, the Veterans Benefits Administration (VA), published a notice in the Federal Register announcing an opportunity for public comment on the proposed collection Servicemembers' Group Life Insurance—Traumatic Injury Protection Program (TSGLI) Application for TSGLI Benefits (SGLV 8600) and Traumatic Injury Protection Program (TSGLI) Appeal Request Form (SGLV 8600a). This notice was published in error; therefore, this document corrects that error by withdrawing this FR notice, document number 2023-05356.

DATES: As of March 31, 2023, the FR notice published at 88 FR 51 on Thursday, March 16, 2023, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2023-05356, published on Thursday, March 16, 2023, is withdrawn by this notice.

By direction of the Secretary.
Dorothy Glasgow,
VA PRA Clearance Officer, (Alt.), Office of Enterprise and Integration/Data Governance Analytics, Department of Veterans Affairs.

[FR Doc. 2023-07127 Filed 4-5-23; 8:45 am]

BILLING CODE 8320-01-P